DEPARTMENT OF HOMELAND SECURITY

Coast Guard

[Docket No. USCG-2014-0713]

Information Collection Request to Office of Management and Budget; OMB Control Number: 1625-NEW

AGENCY: Coast Guard, DHS.

ACTION: Sixty-day notice requesting comments.

SUMMARY: In compliance with the Paperwork Reduction Act of 1995, the U.S. Coast Guard intends to submit an Information Collection Request (ICR) to the Office of Management and Budget (OMB), Office of Information and Regulatory Affairs (OIRA), requesting approval for the following collection of information: 1625-NEW, State Registration Data. Our ICR describes the information we seek to collect from the public. Before submitting this ICR to OIRA, the Coast Guard is inviting comments as described below.

DATES: Comments must reach the Coast Guard on or before September 27, 2021.

ADDRESSES: You may submit comments identified by Coast Guard docket number [USCG-2014-0713] to the Coast Guard using the Federal eRulemaking Portal at https://www.regulations.gov. See the “Public participation and request for comments” portion of the SUPPLEMENTARY INFORMATION section for further instructions on submitting comments.

A copy of the ICR is available through the docket on the internet at https://www.regulations.gov. Additionally, copies are available from: Commandant (CG-6P), Attn: Paperwork Reduction Act Manager, U.S. Coast Guard, 2703 Martin Luther King Jr. Ave. SE, STOP 7710, Washington, DC 20593-7710.

FOR FURTHER INFORMATION CONTACT: A.L. Craig, Office of Privacy Management, telephone 202-475-3528, or fax 202-372-8405, for questions on these documents.

SUPPLEMENTARY INFORMATION:

Public Participation and Request for Comments

This notice relies on the authority of the Paperwork Reduction Act of 1995; 44 U.S.C. chapter 35, as amended. An ICR is an application to OIRA seeking the approval, extension, or renewal of a Coast Guard collection of information (Collection). The ICR contains information describing the Collection's purpose, the Collection's likely burden on the affected public, an explanation of the necessity of the Collection, and other important information describing the Collection. There is one ICR for each Collection.

The Coast Guard invites comments on whether this ICR should be granted based on the Collection being necessary for the proper performance of Departmental functions. In particular, the Coast Guard would appreciate comments addressing: (1) The practical utility of the Collection; (2) the accuracy of the estimated burden of the Collection; (3) ways to enhance the quality, utility, and clarity of information subject to the Collection; and (4) ways to minimize the burden of the Collection on respondents, including the use of automated collection techniques or other forms of information technology.

In response to your comments, we may revise this ICR or decide not to seek an extension of approval for the Collection. We will consider all comments and material received during the comment period.

We encourage you to respond to this request by submitting comments and related materials. Comments must contain the OMB Control Number of the ICR and the docket number of this request, [USCG-2014-0713], and must be received by September 27, 2021.

Submitting Comments

We encourage you to submit comments through the Federal eRulemaking Portal at https://www.regulations.gov. If your material cannot be submitted using https://www.regulations.gov, contact the person in the FOR FURTHER INFORMATION CONTACT section of this document for alternate instructions. Documents mentioned in this notice, and all public comments, are in our online docket at https://www.regulations.gov and can be viewed by following that website's instructions. Additionally, if you go to the online docket and sign up for email alerts, you will be notified when comments are posted.

We accept anonymous comments. All comments received will be posted without change to https://www.regulations.gov and will include any personal information you have provided. For more about privacy and submissions in response to this document, see DHS's eRulemaking System of Records notice (85 FR 14226, March 11, 2020).

The Coast Guard previously published two, 60-day notices (79 FR 60483, October 7, 2014, and 81 FR 85987, November 29, 2016) and one, 30-day notice (83 FR 54128, October 26, 2018) required by 44 U.S.C. 3506(c)(2). Those three notices elicited ten public comment submissions. Following this paragraph, we list the specific concerns or questions raised in those ten submissions. We also list the comments and questions we received from Coast Guard staff that may be helpful to clarify for the public. Following the comment description, we provide our updated responses, including descriptions of any changes we made to the ICR and forms. The Coast Guard is publishing an additional 60-day notice for public commenting due to the significant time that has elapsed since the previous notices were published.

Comment (1): A requestor asks the Coast Guard to consider mandating to states that personal watercraft (PWC) data collection is separately maintained. This will ensure accuracy in the entirety of boat classification data collection and significantly aid PWC manufacturers in market assessment.

Answer: The Coast Guard is maintaining the personal watercraft category in our proposed data collection (see 33 CFR 174.19(a)(11)); we proposed to collect statistics on personal watercraft by length category.

Comment (2): A commenter stated that the Coast Guard's tabulation of State numbered vessels as a result of this Information Collection Request (ICR) cannot be used to measure risk as stated in the supplemental Paperwork Reduction Act submission that accompanies this ICR, especially since there are numerous recreational boating accidents and fatalities that occur in vessels not required to be numbered and not reflected in this collection of information.

Answer: Information in the proposed collection will be used to measure risk; Registration data frequently serves as the denominator of fatality rates (usually expressed in number of deaths per 100,000 registered vessels). The existence of registration data allows the Coast Guard to normalize data and provide meaningful statistics and recommendations for the National Recreational Boating Safety (RBS) Program. The revised collection proposed to break down registration by motorization so that an additional measure, motorized vessel fatality rate, could be used (number of deaths on motorized vessels per 100,000 motorized registered vessels). This measure would provide a much sounder denominator since all States do not collect registration data on non-motorized vessels.

Comment (3): A commenter noted that in accordance with 33 CFR 174.123, each State that has an approved numbering system must prepare and submit Coast Guard form CGHQ-3923, Report of Certificates of Number Issued to Boats, to the Coast Guard. Although OMB No. 1625-NEW reflects the revised vessel type terminology resulting from the Coast Guard's 2012 issuance of the Final Rule on Canges to Standard Numbering System, Vessel Identification System, and Boating Accident Report Database (Docket No. USCG-2003-14963), it does not accurately reflect the CFR's terminology in its title or instructions (i.e., all references to the approved numbering system, state numbered boats and certificates of number have been replaced with registrations and registered).

Answer: This is true. The proposed form focuses on registered vessels, which allows the Coast Guard to examine a larger scope of vessels that fall under the National Recreational Boating Safety Program. The Coast Guard will consider changes to the form title in 33 CFR 174.123 to more accurately reflect the data collection under this Information Collection Request.

Comment (4): A commenter noted that OMB No. 1625-NEW is dated June 2014, inferring that is already in use (or may be required for use). Because States are currently in various stages of implementation of the Final Rule (with final implementation required by January 1, 2017), States cannot be compelled to begin using OMB No. 1625-NEW prior to January 1, 2017. Any required deviation from the use of CGHQ-3923 prior to January 1, 2017 will result in additional (and in some cases, significant) burden and cost to the States.

Answer: The June 2014 date was filled in as a placeholder. The form was drafted and sent for comment early so that the public could comment on the proposed content, and the States could prepare for changes after the data collection is finalized. The Coast Guard has accepted but not required a State's use of this form.

Comment (5): At this time, the state of Ohio is still in the process of transitioning to the new requirements cited in 33 CFR 174.19 (which we are required to implement by January 1, 2017). That being the case, what are the Coast Guard's intentions with regard to the version of the reporting form we will need to use to make our annual reporting in 2015 and beyond? Will we have the option to use the “older” version of the reporting form until such time that we have transitioned to the new requirements? And, if required to use the new form prior to that transition, how will the Coast Guard view any incomplete data that might not be able to be generated in the new format prior to completion of the transition?

Answer: The Coast Guard has accepted but not required a State's use of this form.

Comment (6): Knowing that hull type, and more importantly engine drive information can be important details in better identifying and understanding the boating demographics within a state, what is the rationale for omitting this information in this revised collection form?

Answer: The Coast Guard has not used the hull material or engine information collected in prior registration collections. Because we have not used the data, we removed it from the form so as to reduce the burden of data reporting on the States.

Comment (7): Do the estimates of the form completion burden account for any initial burden in transitioning to this revised reporting scheme? What is the basis for estimates of burden in items 12 and 13 of the Supporting Statement for the collection?

Answer: No. The burden estimate took into account the collection of information, which is based on the number of respondents, frequency of form submission and an estimate of the time taken to fill out the form.

Comment (8) is: Is there any relationship between this revision and anticipated efforts to bring CFR into agreement with the Uniform Certificate of Titling Act for Vessels (UCOTA-V)?

Answer: There is not a relationship between this revision and the UCOTA-V efforts.

Comment (9): Under Puerto Rico law, a Ship or vessel means any system of transportation on water that has a motor installed, including, but without been limited to jet skis, motorized rafts, power sailboats, motor boats, or powered driven boats of any sort, including homemade vessels powered by motor, but excluding hydroplanes. A watercraft means a mode of transportation which does not have a motor installed, such as rowboats, canoes, kayaks, sailboats with or without oars, water skis, surfboards with or without sail, rafts, inflatable systems, and any device that moves on the surface of the water without being propelled by a motor, although it could be fit for installation or adaptation of some type of motor. Therefore, the proposed change creates an overburden of conflicting definitions or wording to deal with in this case. Also, the removal of the proposed definitions leaves the accident investigation protocol without proper wording to aid in the determination of felonies, infractions, or misdemeanors committed.

Answer: This comment is outside the scope of the Notice requesting comments on this information collection. Please use the definitions in 33 CFR 173.3 for this information collection.

Comment (10): SS173.57: Same comment as in the previous paragraph. Mainly, when evaluating marine events involving either vessels, watercrafts, or both. It may also affect the terms and conditions of the memorandum of Agreement between the Government of the Commonwealth of Puerto Rico and the USCG under 14 U.S.C. SS2,89,141; 46 CFR SS13109 and 33 CFR SS100.01 as to comply with 46 U.S.C. 13103(c)(2) on the matter of marine events and boat accident reports procedures.

Answer: This collection of information does not relate to marine events or boat accident report procedures. Therefore, this comment is outside the scope of the Notice requesting comments on the collection.

Comment (11): The definitions in 33 CFR 181.3 do not include the manufacturing of handmade vessels and is inconsistent with SS181.23(b). It should include person engaged in the manufacture of a boat for his or her own use (operation) and not for sale.

Answer: This collection of information is for all registered vessels. If a homemade vessel is registered, it should be included in the statistics.

Comment (12): If a state has already transitioned—or will soon transition—its numbering system and the content of the certificates of number over to the requirements cited in 33 CFR 174.19 (i.e., before the Jan. 1, 2017 implementation deadline), what version of the form is it suppose to use? If, as a result of the ICR, the OMB formally approves the collection and issues an OMB Control Number to this revised form 3923 before the Jan. 1, 2017 deadline for states to implement the new requirements, will a state that does not make the transition until the deadline be able to submit its data on the “old” version of the form?

Answer: States would be asked to submit information on the historic form. If a State has already transitioned to the new terms ahead of the January 1, 2017 deadline, the Coast Guard will accept registration data on either form.

Comment (13): If there are variations in the version of the forms employed by the states and submitted to the Coast Guard, how will the Coast Guard reconcile those differences in the computation and report-out of registration data?

Answer: The Coast Guard will merge datasets if both the historic and proposed forms are used.

In addition to the above comments submitted to the docket, the following comments and questions were received by Coast Guard program staff members:

Comment (14): Is this just the periodic request to approve the continuation of the collection of registration data?

Answer: Yes.

Comment (15): Has the Notice been issued primarily (at this time) as part of the process to get OMB to issue a control number?

Answer: Yes.

Comment (16): Is this in preparation for collection of registration data under the “new” vessel terms authorized by the Final Rule on State Numbering System (SNS), Vessel Identification System (VIS), and Boating Accident Report Database (BARD) (eff. Jan 2017)?

Answer: Yes. This form makes use of the “primary operation” and “vessel type” in 33 Code of Federal Regulation 174.19.

Comment (17): Is there a revised collection form that will accompany it?

Answer: Yes. There is a revised collection form that is greatly simplified. The proposed revision provides instructions, a breakdown of recreational vessel types by motorization and length category, a breakdown of commercial vessel types, and an administration section.

Comment (18): Will there be any other supporting documentation posted to regulations.gov for this Notice?

Answer: Yes. The Coast Guard posted additional files to docket USCG-2014-0173, including the proposed registration form and supporting statement.

Comment (19): A commenter questioned the Coast Guard's response to previously submitted comment (6) in which the Coast Guard noted a reduced reporting burden with the revised form. The commenter noted that the burden is not reduced since collecting aspects of vessels such as hull material and engine type are already required under 33 CFR 174 even if statistics regarding these aspects are not required on form CGHQ-3923.

Answer: The burden of filling out the revised form is reduced. On the previous version of CGHQ-3923, the Coast Guard required statistics on over 150 data points whereas the proposed version of the form requires only 69. The previous version requested information on five variables (vessel type, hull material, length, engine type, and use) whereas the proposed version requires only three variables (vessel type, length, primary operation). The Coast Guard expects a reduced burden as the proposed form will require fewer queries and fewer data point checks to complete it.

Comment (20): A commenter questioned why aspects of vessels such as hull material and engine type are necessary in 33 CFR 174 since they are not required elements to be reported on form CGHQ-3923.

Answer: Various aspects of vessels are required to be collected for law enforcement purposes. Even though various vessel aspects such as hull material and engine type are not on the proposed form CGHQ-3923, they are used in accident, theft, and fraud investigations. Using common terminology facilitates common understanding.

Comment (21): A commenter noted that hull material and engine type are of interest to sectors and should be on form CGHQ-3923 since information on them cannot be obtained outside of CGHQ-3923.

Answer: The Coast Guard works with various sectors including government, industry, non-profits, and researchers. If a party requested information other than what is available on CGHQ-3923, the Coast Guard would direct the user to a more appropriate contact.

Comment (22): A commenter provided a recommended version of CGHQ-3923 that is a modification of the previous CGHQ-3923. It includes additional hull material entries, an additional engine type, and changes the names of some categories.

Answer: The Coast Guard thanks the commenter for the suggested form but maintains a desire to have a simplified form for use by the States. The Coast Guard has not used the hull material or engine information collected previously. Because we have not used the data, we removed it from the form so as to reduce the burden of data reporting on the States.

Information Collection Request

Title: State Registration Data.

OMB Control Number: 1625-NEW.

Summary: This Notice provides information on the collection of registration data from the State reporting authorities.

Need: Title 46 U.S.C. 12302 and 33 CFR 174.123 authorizes the collection of this information.

Forms: CG-3923, State Registration Data.

Respondents: 56 State reporting authorities respond.

Frequency: Annually.

Hour Burden Estimate: This is a new information collection request. The estimated burden is 42 hours a year.

Authority: The Paperwork Reduction Act of 1995; 44 U.S.C. chapter 35, as amended.

Dated: July 22, 2021.
Kathleen Claffie,
Chief, Office of Privacy Management, U.S. Coast Guard.

[FR Doc. 2021-15987 Filed 7-27-21; 8:45 am]

BILLING CODE 9110-04-P